DEPARTMENT OF HEALTH AND HUMAN SERVICES

Administration for Children and Families

Submission for OMB Review; Comment Request

Proposed Projects

Title: Federal Tax Refund Offset, Administrative Offset, and Passport Denial.

OMB No.: 0970-0161.

Description: The Federal Tax Refund Offset and Administrative Offset (Federal Offset) programs collect past-due child and spousal support by intercepting certain federal payments, including federal tax refunds, of parents who have been ordered to pay support and are delinquent. The Federal Offset program is a cooperative effort among the Department of the Treasury's Bureau of the Fiscal Service, the federal Office of Child Support Enforcement (OCSE), and state child support enforcement agencies.

The Passport Denial program reports noncustodial parents who owe child and spousal support above a threshold to the Department of State, which will then deny passports to these individuals. On an ongoing basis, child support enforcement agencies submit to OCSE the names, Social Security numbers, and the amount(s) of past-due child and spousal support of noncustodial parents who are delinquent in making payments.

The information collection activities pertaining to the Federal Tax Refund Offset, Administrative Offset, and Passport Denial programs are authorized by: (1) 42 U.S.C. 652(b), 42 U.S.C. 664, 26 U.S.C. 6402(c), 31 CFR 285.3, 45 CFR 302.60, and 45 CFR 303.72, which require state child support agencies to submit information pertaining to past-due support cases meeting specific criteria for the offset of the federal tax refund of the noncustodial parent; (2) 31 U.S.C. 3701 et seq., 31 U.S.C. 3716(h), and 31 CFR 285.1, which require state child support agencies to submit information pertaining to past-due support cases meeting specific criteria for the administrative offset of federal payments other than federal tax refunds of the noncustodial parent; (3) 42 U.S.C. 652(k), 42 U.S.C. 654(31), and 22 CFR 51.60, which require state child support agencies to submit information to OCSE pertaining to past-due support cases meeting specific criteria for the denial, revocation, restriction, or limitation of the passport of the noncustodial parent; and (4) 42 U.S.C. 654(31), 42 U.S.C. 664, 31 CFR 285.1, and 31 CFR 285.3, which require state child support agencies to submit the Annual Certification Letter to OCSE asserting that each case submitted for the Federal Tax Refund Offset, Administrative Offset, and Passport Denial programs meets federal requirements.

Respondents: Child Support Enforcement Agencies

Annual Burden Estimates
Information collection instrument | Number of respondents | Number of responses per respondent | Average burden hours per response | Total burden hours
Input Record | 54 | 52 | .3 | 842.4
Output Record | 54 | 52 | .46 | 1291.7
Payment File | 54 | 52 | .135 | 379.1
Certification Letter | 54 | 1 | .4 | 21.6
Portal Processing screens | 173 | 280.65 | .01 | 485.52

Estimated Total Burden Hours: 3,020.

Additional Information: Copies of the proposed collection may be obtained by writing to the Administration for Children and Families, Office of Planning, Research and Evaluation, 330 C Street SW, Washington, DC 20201, Attention Reports Clearance Officer. All requests should be identified by the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary B. Jones,
ACF/OPRE Certifying Officer.

[FR Doc. 2019-10206 Filed 5-16-19; 8:45 am]

BILLING CODE 4184-41-P